DEPARTMENT OF ENERGY

Federal Energy Regulatory Commission

[Docket No. EL10-61-000]

Cargill Power Markets, LLC, Complainant v. Public Service Company of New Mexico, Respondent; Notice of Complaint

April 21, 2010.

Take notice that on April 20, 2010, pursuant to section 206 of the Federal Energy Regulatory Commission's (Commission) Rules and Practice and Procedure, 18 CFR 385.206 (2009), and section 206 of the Federal Power Act (FPA), 16 U.S.C. 824e (2006), Cargill Power Markets, LLC (Complainant) filed a formal complaint against Public Service Company of New Mexico (Respondent) alleging that Respondent violated the requirements of its open access transmission tariff, the North American Energy Standards Board (NAESB) business practices incorporated by reference therein, and the non-discrimination requirements of the FPA by improperly denying Complainant's valid transmission service request (TSR) that complied with the Respondent's Tariff and NAESB requirements. Complainant also alleges that Respondent improperly granted invalid TSRs that did not comply with the Respondent's Tariff and NAESB requirements. Complainant requests that the Commission direct Respondent to reprocess its TSRs in accordance with Respondent's Tariff and the NAESB standards and to institute an FPA section 206 investigation of Respondent's transmission and interconnection queue processing practices.

The Complainant states that a copy of the complaint has been served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 10, 2010.

Kimberly D. Bose,
Secretary.

[FR Doc. 2010-10056 Filed 4-29-10; 8:45 am]

BILLING CODE 6717-01-P